DEPARTMENT OF TRANSPORTATION

Federal Aviation Administration

Twentieth Meeting: RTCA Special Committee 222 (SC 222) AMS(R)S, Joint Meeting With EUROCAE WG-82

AGENCY: Federal Aviation Administration (FAA), U.S. Department of Transportation (DOT).

ACTION: Twentieth Meeting Notice of RTCA Special Committee 222.

SUMMARY: The FAA is issuing this notice to advise the public of the twentieth meeting of the RTCA Special Committee 222.

DATES: The meeting will be held September 22nd-24th from 8:00 a.m.-12:00 p.m.

ADDRESSES: The meeting will be held at Inmarsat, 99 City Road, London, England, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a) (2) of the Federal Advisory Committee Act (Pub. L. 92-463, 5 U.S.C., App.), notice is hereby given for a meeting of the RTCA Special Committee 222, Joint Meeting with Eurocae WG-82. Inmarsat is located next to Old St Underground Station. On leaving the ticket barrier area turn left. To register your attendance, please email alan.schuster-bruce@inmarsat.com. Tel: +44 20 7728 1161 (desk), Tel: +44 7740 735096 (mobile). Those who plan to attend in person should also notify the Chair of WG-82, Mr. Armin Schlereth at least seven days in advance. Details on in-person attendance, such as hotels and contact information may be found in the WG-82/23 calling notice posted as WP-171 in the/documents folder of the SC-222 Workspace. Interested persons are invited to attend the WG-82 portions of the meeting as well. The Eurocae WG-82 meeting extends all day (London time) on Tuesday and Wednesday. For details, see WP-171. Armin Schlereth, DFS Deutsche Flugsicherung GmbH, SIS/DM, Am DFS Campus 7, 63225 Langen, Tel: +49 6103 707 2433, Mobile: +49 172 5209 369, FAX: +49 6103 707 2490. Per RTCA PMC changes to the SC-222 Terms of Reference, this meeting will be a joint meeting with Eurocae WG-82. The two main objectives for SC-222 are the review and approval for FRAC of Change 1 to the Iridium material of DO-262B and review of progress toward an Inmarsat SBB MASPs for “Class B” equipment, as discussed in the April joint meeting.

The SC-222 portions of the meeting are expected to be largely virtual, conducted over Webex with a telephone bridge. Dr. LaBerge will be in the US, but DFO David Robinson of FAA will be attending in person. Alan Schuster-Bruce of Inmarsat will serve as Chairman pro tem for any portions of the meeting that Dr. LaBerge is unable to attend. Eurocontrol meetings are usually business formal.

Remote instructions are the following:

https://rtca.webex.com/rtca/j.php?MTID=ma6d7ebb28b52edcdfb39163cfad016b3

Access Code: 689 965 723

Meeting password: September15

Audio connection:

1-877-668-4493 Call-in toll-free number (US/Canada)

1-650-479-3208 Call-in toll number (US/Canada)

The agenda will include the following:

Tuesday, September 22, 2015 (8:00 a.m. EDT-12:00 p.m. EDT)

1. Greetings & Attendance

2. Review summary of January meeting (19th Plenary) will be accomplished by email prior to this joint meeting. See WP-170 in the /documents folder on the SC-222 workspace

3. (WG-82 Item 7a) Discussion of the draft MASPS prepared by Alan Schuster-Bruce of Inmarsat. This document has been posted as WP-172 in the /documents folder on the SC-222 workspace. Participants should read the information posted on the SC-222 Workspace prior to the meeting. (1.5 hours duration)

4. (7b) Discussion of SESAR P15.2.4, QoS Requirements. This document/presentation will be posted as WP-174. (1 hour)

5. (7c) Requirements apportionment and use of VTB (TAS). (0.5 hour)

6. (7d) Discussion of next steps

Wednesday, September 23, 2015 (8:00 a.m. EDT-12:00 p.m. EDT)

1. (WG-82 Item 9.a.i) Present and discuss the status of the Inmarsat MOPS document. (1 hour duration)

2. (9.a.ii) Discussion of the WP-173, which is a draft of Change 1 to the Iridium material of DO-262B. The purpose of the discussion is to approve Change 1 for the FRAC process, with a desire to have the document approved at the December PMC meeting. This discussion will be time limited. If approval of a FRAC version cannot be accomplished on Wednesday, the discussion will be continued at a SC-222-only session on Thursday morning. (1 hour duration)

3. (9.b) Discuss the IRIS Air Interface. (1 hour)

4. (9.c) The A, B, C, Class structure as potential conflicts with other aviation standards identifiers

5. (9.d) Next steps

6. (10) Any other business

7. (11) Summary and determination of next meeting and other coordination actions

Thursday, September 24, 2015 (9:00 a.m. EDT-12:00 p.m. EDT)

1. Additional discussion of WP-173, if necessary. If all issues are resolved and the document is approved for FRAC during the Wednesday session, this session will not be necessary. This session will be SC-222 members only, although any WG-82 members are invited to attend

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 19, 2015.
Latasha Robinson,
Management & Program Analyst, Next Generation, Enterprise Support Services Division, Federal Aviation Administration.

[FR Doc. 2015-21174 Filed 8-25-15; 8:45 am]

BILLING CODE 4910-13-P